DEPARTMENT OF HEALTH AND HUMAN SERVICES

Office of the Secretary

Findings of Research Misconduct

AGENCY: Office of the Secretary, HHS.

ACTION: Notice.

SUMMARY: Notice is hereby given that the Office of Research Integrity (ORI) and the Assistant Secretary for Health have taken final action in the following case:

Carlos A. Murillo, M.D., University of Texas Medical Branch at Galveston: Based on the report of an inquiry conducted by the University of Texas Medical Branch at Galveston (UTMB) and additional analysis and information obtained by the Office of Research Integrity during its oversight review, the U.S. Public Health Service (PHS) found that Carlos A. Murillo, M.D., former Surgical Resident, Department of Surgery, UTMB, engaged in research misconduct in research supported by National Institute of Diabetes and Digestive and Kidney Diseases (NIDDK), National Institutes of Health (NIH), grants R01 DK48498 and T32 DK07639.

Specifically, Dr. Murillo falsified research on the amelioration by antisense RNA (siRNA) of dextran-induced colonic toxicity in mice. He altered the concentrations of dextran solution fed to mice to induce colonic inflammation, by intentionally including little or no dextran in the drinking water of siRNA treated mice, so that the animals that received siRNA would have few or no colonic lesions.

Dr. Murillo has entered into a Voluntary Exclusion Agreement (Agreement) in which he has voluntarily agreed, for a period of three (3) years, beginning on May 30, 2007:

(1) That any institution that submits an application for PHS support for a research project on which Dr. Murillo's participation is proposed or that uses him in any capacity on PHS support research, or that submits a report of PHS-funded research in which he is involved, must concurrently submit a plan for supervision of his duties to the funding agency for approval; the supervisory plan must be designed to ensure the scientific integrity of Dr. Murillo's research contribution; Dr. Murillo agrees to ensure that a copy of the supervisory plan is also submitted to ORI by the institution and agrees that he will not participate in any PHS-supported research until such a supervision plan is submitted to ORI;

(2) to exclude himself from serving in any advisory capacity to PHS, including but not limited to service on any PHS advisory committee, board, and/or peer review committee, or as a consultant; and

(3) to request retraction of the abstract entitled “Inhibition of Phosphoinositol 3-kinase Using Anti-p85 siRNA Attenuates Dextran-Sulfate-Induced Inflammatory Bowel Disease” (Gastroenterology 126:A49, 2004), by signing the letter of retraction prepared by ORI attached as Attachment 2 and made part of the Agreement.

FOR FURTHER INFORMATION CONTACT: Director, Division of Investigative Oversight, Office of Research Integrity, 1101 Wootton Parkway, Suite 750, Rockville, MD 20852, (240) 453-8800.

John Dahlberg,
Acting Director,Office of Research Integrity.

[FR Doc. E7-11908 Filed 6-19-07; 8:45 am]

BILLING CODE 4150-31-P